COUNCIL ON ENVIRONMENTAL QUALITY

The National Environmental Policy Act and Environmental Management Systems

AGENCY: Council on Environmental Quality.

ACTION: Notice of availability, Guide for Aligning National Environmental Policy Act processes with Environmental Management Systems.

SUMMARY: The Council on Environmental Quality (CEQ) is publishing “Aligning National Environmental Policy Act Processes with Environmental Management Systems—A Guide for NEPA and EMS Practitioners” to assist Federal agencies in aligning their National Environmental Policy Act (NEPA) processes with their Environmental Management Systems (EMSs). CEQ used an interagency work group to develop the guide and finalized it after considering public comments. The final guide is available from CEQ and at http://www.NEPA.gov.

ADDRESSES: Copies of the guide can be requested from CEQ. Electronic or facsimile requests for a copy of the guide are preferred because federal offices experience intermittent mail delays caused by security screening. Send electronic requests to NEPA Modernization (EMS-NEPA) at horst_greczmiel@ceq.eop.gov. Fax written requests to NEPA Modernization (EMS-NEPA) at (202) 456-0753. Written requests may also be submitted to NEPA Modernization (EMS-NEPA), Attn: Associate Director for NEPA Oversight, 722 Jackson Place, NW., Washington, DC 20503.

FOR FURTHER INFORMATION CONTACT: Horst Greczmiel at (202) 395-5750.

SUPPLEMENTARY INFORMATION: The Council on Environmental Quality (CEQ) established a National Environmental Policy Act (NEPA) Task Force and is implementing recommendations to modernize the implementation of NEPA and make the NEPA process more effective and efficient. Additional information is available on the task force Web site at http://ceq.eh.doe.gov/ntf.

A proposed guide was developed to assist agencies with linking the NEPA process with Environmental Management Systems (EMS). CEQ requested public input and comments on the proposed guide, 71 FR 40520, Jul 17, 2006. All comments received are available at http://ceq.eh.doe.gov/ntf/implementation.html.

The final guide is being provided to Federal agencies to help them recognize the complementary relationship of EMS and NEPA and assist in aligning EMS elements with NEPA when establishing, implementing, and maintaining their EMS. The guide encourages the integration of EMS and NEPA as a means to bring substantial benefits to an agency's environmental performance and further our national environmental policy. For example:

Commitments and mitigation measures established in NEPA decision documents (e.g., Findings of No Significant Impact and Records of Decision) can be tracked and monitored through the EMS. The EMS provides a framework to improve environmental performance in ongoing day-to-day operations through EMS “operational controls.” The tracking and monitoring of commitments and mitigation measures can contribute to training, internal auditing, and identification of appropriate corrective actions.

A major component of the NEPA process is communicating and involving the interested public about a proposed action. An EMS can provide numerous opportunities for communicating with the public, and by providing information about the proposal under consideration, help focus public involvement.

The guide assumes that the reader has a basic understanding of both the NEPA analysis and document preparation processes and the basic elements of an EMS. A reference list was added to provide readers the opportunity to increase their understanding of NEPA and EMS. In addition to editorial revisions, the guide was also revised substantively.

CEQ specifically solicited public comment on the idea presented in the draft that a well constructed EMS can include the elements of the NEPA process and serve as the basis for complying with NEPA requirements. Numerous commenters interpreted this statement to mean that an EMS could replace the NEPA process, or took issue with such an approach. The final guide distinguishes between the typical NEPA process focus on proposed actions, and the typical EMS focus on ongoing activities and products and services. It states that NEPA and EMS are not functionally equivalent, but complementary. The guide highlights the complementary elements of NEPA and EMS and presents the conclusion that an EMS can provide a framework for an agency to better meet its NEPA responsibilities.

Several commenters raised the concern that the requirements of NEPA are more extensive than those found in a typical EMS. The final guide uses public involvement as an example to emphasize that an EMS has to include the more rigorous NEPA requirements if the EMS will provide the mechanism to support and meet the NEPA process requirements.

The guide describes specific ways EMS and NEPA processes can complement one another to improve how Federal agencies manage their impacts on the environment:

• Identification of environmental aspects in the development of an EMS can build on the environmental aspects identified in a previous NEPA analysis of a facility, activity, program, or policy. Conversely, a new NEPA analysis can consider the identified environmental aspects in an EMS when assessing potential environmental impacts of a proposed action. The EMS can provide a platform to use the information collected and analyses performed in the NEPA process on a going forward basis during implementation of proposed actions.

• Performance measurements and monitoring conducted as part of an EMS can provide comparable and verifiable data to improve environmental impact predictions in future NEPA analyses and documents.

• An EMS provides a systematic framework for an agency to monitor and continually improve its environmental performance. Agencies with an EMS may be able to use the data it generates to establish a record of environmental performance to support, for example: (a) Identifying categories of actions that normally require an Environmental Impact Statement (EIS); (b) finding no significant impact when performance practices are incorporated into a proposed action (which would conclude the Environmental Assessment (EA) process without the need to prepare an EIS); or (c) determining that a category of actions does not have individual or cumulative significant impacts and should properly be established as a categorical exclusion which would reduce the need to prepare either an EA or an EIS. Further, when a NEPA analysis is needed, the EMS approach of keeping environmental data up-to-date should facilitate the preparation of the NEPA documents.

• When an EMS has established environmental objectives and targets relevant to resource areas subject to NEPA mitigation measures, the EMS can ensure implementation and performance of mitigation measures through applicable measurement and monitoring programs.

CEQ recognizes the benefits of aligning these complementary processes and encourages Federal agencies to do so where appropriate.

Dated: April 5, 2007.
James L. Connaughton,
Chairman, Council on Environmental Quality.

[FR Doc. E7-7950 Filed 4-25-07; 8:45 am]

BILLING CODE 3125-W7-P